COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and deletes product(s) and service(s) previously furnished by such agencies.

DATES: Comments must be received on or before: July 04, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

MR 10797—Flashlight, Includes Shipper 20797

MR 11508—Cat Teaser

MR 11509—Pet Collar

MR 11510—Toy, Pet, Squeaky

MR 10807—Pantry Basket, Includes Shipper 20807

MR 10806—Cutting Board, Includes Shipper 20806

MR 10799—Egg Scrambler, Includes Shipper 20799

MR 13153—Pizza Crisper

MR 10809—Onion Saver, Includes Shipper 20809

MR 10798—Headlamp, Includes Shipper 20798

MR 13154—Sauce Pan, 2 QT

Designated Source of Supply: Winston-Salem Industries for the Blind, Inc., Winston-Salem, NC

Mandatory For: The requirements of military commissaries and exchanges in accordance with the 41 CFR 51-6.4

Contracting Activity: Military Resale-Defense Commissary Agency

Distribution: C-List

Deletions

The following product(s) and service(s) are proposed for deletion from the Procurement List:

Product(s)

NSN(s)—Product Name(s): 7930-00-NIB-0213—Finish Remover, Concentrate, 2 Liter

Designated Source of Supply: Beacon Lighthouse, Inc., Wichita Falls, TX

Contracting Activity: STRATEGIC ACQUISITION CENTER, FREDERICKSBURG, VA

NSN(s)—Product Name(s):

7520-01-618-9917—Portable Desktop Clipboard, 9 1/2″ W × 1 1/2″ D × 13 1/2″ H, Black

7520-01-653-5889—Clipboard, Desktop, Reflective Yellow, 9 1/2″ W × 1 1/2″ D × 13 1/2″ H

7520-01-622-2122—Portable Desktop Clipboard, 10″ W × 2 3/5″ D × 16″ H, Black

7520-01-622-2123—Portable Desktop Clipboard, 10″ W × 2 3/5″ D × 16″ H, Blue

Designated Source of Supply: LC Industries, Inc., Durham, NC

Contracting Activity: GSA/FAS ADMIN SVCS ACQUISITION BR(2, NEW YORK, NY

NSN(s)—Product Name(s): 8465-01-524-7253—Adapter, ALICE Clip, Universal Camouflage

Designated Source of Supply: Lions Services, Inc., Charlotte, NC

Contracting Activity: DLA TROOP SUPPORT, PHILADELPHIA, PA

NSN(s)—Product Name(s): MR 11319—Mug, Travel, Stainless Steel, Classic, 20 oz.

Designated Source of Supply: Association for Vision Rehabilitation and Employment, Inc., Binghamton, NY

Contracting Activity: Military Resale-Defense Commissary Agency

NSN(s)—Product Name(s): 7930-01-513-9968—Remover, Carpet Stain, Aerosol, 19 oz.

Designated Source of Supply: The Lighthouse for the Blind, St. Louis, MO

Contracting Activity: GSA/FSS GREATER SOUTHWEST ACQUISITI, FORT WORTH, TX

Service(s)

Service Type: Temp. Admin/General Support Services

Mandatory for: GSA, Southwest Supply Center: 819 Taylor Street, Fort Worth, TX

Designated Source of Supply: Tarrant County Association for the Blind, Fort Worth, TX

Designated Source of Supply: Louisiana Association for the Blind, Shreveport, LA

Contracting Activity: GENERAL SERVICES ADMINISTRATION, FPDS AGENCY COORDINATOR

Service Type: CBRNE Kit Sustainment and Replenishment

Mandatory for: Naval Medical Logistics Command, Fort Detrick, MD, (Offsite: 10440 Trenton Avenue, St. Louis, MO), 693 Nelman Street, Fort Detrick, MD

Designated Source of Supply: The Lighthouse for the Blind, St. Louis, MO

Contracting Activity: DEPT OF THE NAVY, NAVAL MEDICAL LOGISTICS COMMAND

Service Type: Shelf Stocking, Custodial & Warehousing

Mandatory for: Fort Knox, KY

Contracting Activity: DEFENSE COMMISSARY AGENCY (DECA), DEFENSE COMMISSARY AGENCY

Michael R. Jurkowski,
Deputy Director, PL Operations.

[FR Doc. 2021-11749 Filed 6-3-21; 8:45 am]

BILLING CODE 6353-01-P